DEPARTMENT OF ENERGY

Federal Energy Regulatory Commission

Combined Notice of Filings #2

Take notice that the Commission received the following electric rate filings:

Docket Numbers: ER14-1616-002; EL14-41-001.

Applicants: NorthWestern Corporation.

Description: Joint Offer of Settlement of NorthWestern Corporation, et al.

Filed Date: 9/23/14.

Accession Number: 20140923-5024.

Comments Due: 5 p.m. ET 10/14/14.

Docket Numbers: ER14-2466-001.

Applicants: RE Camelot LLC.

Description: Tariff Amendment per 35.17(b): Amendment to Baseline Filing—RE Camelot LLC to be effective 9/7/2014.

Filed Date: 9/24/14.

Accession Number: 20140924-5111.

Comments Due: 5 p.m. ET 10/15/14.

Docket Numbers: ER14-2548-001.

Applicants: Ocean State Power.

Description: Tariff Amendment per 35.17(b): Amendment to Notice of Succession to be effective 9/22/2014.

Filed Date: 9/22/14.

Accession Number: 20140922-5093.

Comments Due: 5 p.m. ET 10/14/14.

Docket Numbers: ER14-2933-000.

Applicants: Arizona Public Service Company.

Description: § 205(d) rate filing per 35.13(a)(2)(iii): Service Agreement No. 335—Mead Substation Interconnection Agreement to be effective 11/24/2014.

Filed Date: 9/24/14.

Accession Number: 20140924-5082.

Comments Due: 5 p.m. ET 10/15/14.

Docket Numbers: ER14-2934-000.

Applicants: PJM Interconnection, L.L.C.

Description: § 205(d) rate filing per 35.13(a)(2)(iii): PJM Service Agreement No. 3503 (Queue No. X4-031) to be effective 8/25/2014.

Filed Date: 9/24/14.

Accession Number: 20140924-5090.

Comments Due: 5 p.m. ET 10/15/14.

Docket Numbers: ER14-2935-000.

Applicants: Arizona Public Service Company.

Description: Tariff Withdrawal per 35.15: Cancellation of Service Agreement No. 331 to be effective 11/24/2014.

Filed Date: 9/24/14.

Accession Number: 20140924-5106.

Comments Due: 5 p.m. ET 10/15/14.

Docket Numbers: ER14-2936-000.

Applicants: Sunbury Generation LP.

Description: Tariff Withdrawal per 35.15: Sunbury Reactive Supply Tariff Cancellation to be effective 9/24/2014.

Filed Date: 9/24/14.

Accession Number: 20140924-5107.

Comments Due: 5 p.m. ET 10/15/14.

Docket Numbers: ER14-2937-000.

Applicants: American Transmission Systems, Incorporated, PJM Interconnection, L.L.C.

Description: § 205(d) rate filing per 35.13(a)(2)(iii): ATSI submits Revised SA No. 2852 and Service Agreement Nos. 3931 and 3932 to be effective 11/20/2014.

Filed Date: 9/24/14.

Accession Number: 20140924-5131.

Comments Due: 5 p.m. ET 10/15/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 24, 2014.
Nathaniel J. Davis, Sr.,
Deputy Secretary.

[FR Doc. 2014-23349 Filed 9-30-14; 8:45 am]

BILLING CODE 6717-01-P